POSTAL REGULATORY COMMISSION

Sunshine Act Meetings

Name of Agency: Postal Regulatory Commission.

Time and Date: 10 a.m., Thursday, February 1, 2007

Place: Commission conference room, 901 New York Avenue, NW., Suite 200, Washington, DC 20268-0001.

Status: Open.

Matters to be Considered: 1. Agency organization—establishment of the Office of the Inspector General and the position of Inspector General of the Postal Regulatory Commission. 2. Agency organization—establishment of the Office of Public Affairs and Congressional Relations and the position of Director, Office of Public Affairs and Congressional Relations.

Contact Person for More Information: Steven W. Williams, Secretary, 202-789-6842 or steven.williams@prc.gov.

Dated: Thursday, January 25, 2007.
Steven W. Williams,
Secretary.

[FR Doc. 07-405 Filed 1-25-07; 2:55 pm]

BILLING CODE 7710-FW-M